SMALL BUSINESS ADMINISTRATION

13 CFR Part 121

Small Business Size Standards; Waiver of the Nonmanufacturer Rule

AGENCY: Small Business Administration.

ACTION: Notice of intent to waive the nonmanufacturer rule for aerospace ball and roller bearings, consists of, but not limited to, annular ball bearings, ball bearings, cylindrical ball bearings, linear ball bearings, linear roller bearings, needle roller bearings races, roller bearings, tapered roller bearings and thrust roller bearings.

SUMMARY: The Small Business Administration (SBA) is considering granting a waiver of the Nonmanufacturer Rule for aerospace ball and roller bearings, consists of, but not limited to, annular ball bearings, ball bearings, cylindrical ball bearings, linear ball bearings, linear roller bearings, ball or roller bearing races, roller bearings, tapered roller bearings and thrust roller bearings. The basis for a waiver of the Nonmanufacturer Rule for these products is that there are no small business manufacturers or processors available to supply these products to the Federal Government. The effect of a waiver would be to allow an otherwise qualified Nonmanufacturer to supply other than the product of a domestic small business manufacturer or processor on a Federal contract set aside for small businesses or awarded through the SBA 8(a) Program. The purpose of this notice is to solicit comments and potential source information from interested parties.

DATES: Comments and sources must be submitted on or before March 5, 2001.

ADDRESSES: Edith Butler, Program Analyst, U.S. Small Business Administration, 409 3rd Street SW., Washington, DC 20416, Tel: (202) 619-0422.

FOR FURTHER INFORMATION CONTACT: Edith Butler, Program Analyst, (202) 619-0422 FAX (202) 205-6845.

SUPPLEMENTARY INFORMATION: Public Law 100-656, enacted on November 15, 1988, incorporated into the Small Business Act the previously existing regulation that recipients of Federal contracts set-aside for small businesses or the SBA 8(a) Program procurement must provide the product of a small business manufacturer or processor, if the recipient is other than the actual manufacturer or processor. This requirement is commonly referred to as the Nonmanufacturer Rule. The SBA regulations imposing this requirement are found at 13 CFR 121.406(b). Section 303(h) of the law provides for waiver of this requirement by SBA for any “class of products” for which there are no small business manufacturers or processors in the Federal market. To be considered available to participate in the Federal market on these classes of products, a small business manufacturer must have submitted a proposal for a contract solicitation or received a contract from the Federal Government within the last 24 months. The SBA defines “class of products” based on two coding systems. The first is the Office of Management and Budget North American Industry Classification System (NAICS). The second is the Product and Service Code (PSC) established by the Federal Procurement Data System.

The Small Business Administration is currently processing a request for a waiver of the Nonmanufacturer Rule for Ball and Roller Bearing Manufacturing (SIC 3562, NAICS 332991), roller bearings consists of, but not limited to, annular ball bearings, ball bearings, cylindrical ball bearings, linear ball bearings, linear roller bearings, needle roller bearings, ball or roller bearings races, roller bearings, tapered roller bearings and thrust roller bearings, and invites the public to comment or provide information on potential small business manufacturers for these products.

In an effort to identify potential small business manufacturers, the SBA has searched Procurement Marketing & Access Network (PRO-Net) and the SBA will publish a notice in the Commerce Business Daily. The public is invited to comment or provide source information to SBA on the proposed waiver of the Nonmanufacturer Rule for these classes of products.

Dated: January 26, 2001.
Luz A. Hopewell,
Associate Administrator for Government Contracting.

[FR Doc. 01-3976 Filed 2-16-01; 8:45 am]

BILLING CODE 8025-01-P